DEPARTMENT OF COMMERCE

International Trade Administration

[A-570-867]

Certain Automotive Replacement Glass Windshields From The People's Republic of China: Notice of Partial Rescission of the Antidumping Duty Administrative Review

AGENCY: Import Administration, International Trade Administration, Department of Commerce.

ACTION: Notice of partial rescission of administrative review.

SUMMARY: On May 21, 2003, in response to timely requests from respondents subject to the order on certain automotive replacement glass (“ARG”) windshields from the People's Republic of China (“PRC”), in accordance with section 751(a) of the Act, the Department published in the Federal Register a notice of initiation of this antidumping duty administrative review of sales by respondents, including Changchun Pilkington Safety Glass Company, Ltd., Dongguan Kongwan Automobile Glass, Ltd., Fuyao Glass Industry Group Company, Ltd., Guilin Pilkington Safety Glass Company, Ltd., Peaceful City, Ltd., Shanghai Yaohua Pilkington Autoglass Company, Ltd., Shenzen CSG Automotive Glass Co., Ltd., (formerly Shenzhen Benxum Auto Glass Co., Ltd.) (“Benxum”), TCG International, Inc.(“TCGI”), Wuhan Yaohua Pilkington Safety Glass Company, Ltd., and Xinyi Automotive Glass (Shenzhen) Co., Ltd. (“Xinyi”) of ARG from China for the period September 19, 2001 through March 31, 2003. See Initiation of Antidumping and Countervailing Duty Administrative Reviews and Request for Revocation in Part, 68 FR 27781 (May 21, 2003) (“Initiation Notice”). The petitioners in the original investigation did not request an administrative review. Because Benxum, TCGI, and Xinyi have withdrawn their requests for administrative review and the petitioners did not request an administrative review, the Department is rescinding this review of sales by Benxum, TCGI, and Xinyi, in accordance with 19 C.F.R. 351.213(d)(1). The Department is now publishing its determination to rescind the review of sales of subject merchandise by Benxum, TCGI, and Xinyi for the periods referenced below.

EFFECTIVE DATE: September 8, 2003.

FOR FURTHER INFORMATION CONTACT: Stephen Bailey or Jon Freed, Import Administration, International Trade Administration, U.S. Department of Commerce, 14th Street and Constitution Avenue N.W., Washington, D.C. 20230; telephone: (202) 482-1102, (202) 482-3818, respectively.

SUPPLEMENTARY INFORMATION:

Background

On April 4, 2002, the Department published in the Federal Register the antidumping duty order on ARG Windshields from the People's Republic of China (“PRC”). See Antidumping Duty Order: Automotive Replacement Glass Windshields from the People's Republic of China, 67 FR 16087 (April 4, 2002). On April 7, 2003, the Department of Commerce (“Department”) published a notice of opportunity to request an administrative review of the antidumping duty order on ARG windshields from the PRC for the period September 19, 2001, through March 31, 2003. See Antidumping or Countervailing Duty Order, Finding, or Suspended Investigation; Opportunity to Request Administrative Review, 68 FR 16761 (April 7, 2003). On May 21, 2003, in response to timely requests from respondents subject to the order on ARG windshields from the PRC, the Department published in the Federal Register a notice of initiation of this antidumping duty administrative review of sales by respondents, including Changchun Pilkington Safety Glass Company, Ltd., Dongguan Kongwan Automobile Glass, Ltd., Fuyao Glass Industry Group Company, Ltd., Guilin Pilkington Safety Glass Company, Ltd., Peaceful City, Ltd., Shanghai Yaohua Pilkington Autoglass Company, Ltd., Benxum, TCGI, Wuhan Yaohua Pilkington Safety Glass Company, Ltd., and Xinyi of ARG windshields from the PRC for the period September 19, 2001 through March 31, 2003. See Initiation Notice, 68 FR 27781 (May 21, 2003).

On June 3, 2003, the Department issued antidumping duty questionnaires to the respondents, including Benxum, TCGI, and Xinyi. On July 8, 2003, Benxum submitted a letter to the Department withdrawing its request for an administrative review of sales and entries of subject merchandise exported by Benxum and covered by the antidumping duty order on ARG windshields from the PRC. On July 31, 2003, TCGI submitted a letter to the Department withdrawing its request for an administrative review of sales and entries of subject merchandise exported by TCGI and covered by the antidumping duty order on ARG windshields from the PRC. On July 31, 2003, Xinyi submitted a letter to the Department withdrawing its request for an administrative review of sales and entries of subject merchandise exported by Xinyi and covered by the antidumping duty order on ARG windshields from the PRC.

Rescission of Review

Pursuant to 19 CFR 351.213(d)(1), the Department will rescind an administrative review, in whole or in part, if a party that requested a review withdraws the request within 90 days of the date of publication of notice of initiation of requested review. Benxum, TCGI, and Xinyi withdrew their respective requests for review within the 90 day time limit; accordingly, we are rescinding this administrative review as to those companies and will issue appropriate assessment instructions to the U.S. Bureau of Customs and Border Protection. For Benxum and TCGI, the period of the administrative review that is hereby rescinded is September 19, 2001 through March 31, 2003. For Xinxi, the period of the administrative review that is hereby rescinded is February 12, 2002 through March 31, 2003.¹

¹ The liquidation of entries of subject merchandise exported by Xinyi was not suspended until the final determination in the original investigation. See Notice of Preliminary Determination of Sales at Less than Fair Value: Certain Automotive Replacement Glass Windshields from the People's Republic of China, 66 FR 48233, 48242 (September 19, 2001) compare with Notice of Final Determination of Sales at Less than Fair Value: Certain Automotive Replacement Glass Windshields from the People's Republic of China, 67 FR 6482, 6484 (February 12, 2002).

This notice serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and terms of APO is a sanctionable violation.

This determination is issued in accordance with 19 C.F.R. 351.213(d)(4) and section 777(i)(1) of the Act.

Dated: September 2, 2003.
James J. Jochum,
Assistant Secretary for Import Administration.

[FR Doc. 03-22785 Filed 9-5-03; 8:45 am]

BILLING CODE 3510-DS-S